DEPARTMENT OF COMMERCE

Bureau of Economic Analysis

Proposal To Collect Information on Annual Survey of Royalties, License Fees, and Other Receipts and Payments for Intangible Rights Between U.S. and Unaffiliated Foreign Persons

ACTION: Proposed collection; comment request.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before September 5, 2003.

ADDRESSES: Direct all written comments to Diana Hynek, Departmental Paperwork Clearance Officer, Office of the Chief Information Officer, Department of Commerce, Room 6625, 14th and Constitution Avenue, NW., Washington, DC 20230, or via the Internet at dHynek@doc.gov.

FOR FURTHER INFORMATION CONTACT: Requests for additional information or copies of the information collection instruments and instructions should be directed to: Obie G. Whichard, U.S. Department of Commerce, Bureau of Economic Analysis, BE-50 (OC), Washington, DC 20230, or via the Internet at Obie.Whichard@bea.gov (Telephone: 202-606-9890).

SUPPLEMENTARY INFORMATION:

I. Abstract

The Annual Survey of Royalties, License Fees, and Other Receipts and Payments for Intangible Rights Between U.S. and Unaffiliated Foreign Persons (Form BE-93) obtains information on transactions in intangible rights between U.S. and unaffiliated foreign persons. The information gathered is needed, among other purposes, to support U.S. trade policy initiatives and to compile the U.S. international transactions, input-output, and national income and product accounts. No changes are proposed for Form BE-93.

II. Method of Collection

Form BE-93 will be sent each year to potential respondents in January and responses are due by March 31. A U.S. person that has transactions in intangible rights with unaffiliated foreign persons is required to report if total covered receipts or covered payments are more than $2 million during the covered year. A U.S. person that receives a form but is not required to report data must file an exemption claim.

III. Data

OMB Number: 0608-0017.

Form Number: BE-93.

Type of Review: Regular submission.

Affected Public: U.S. businesses or other for-profit institutions.

Estimated Number of Respondents: 650 annually.

Estimated Time Per Response: 4 hours.

Estimated Total Annual Burden: 2,600 hours.

Estimated Total Annual Cost: $78,000 (based on an estimated reporting burden of 2,600 hours and estimated hourly cost of $30).

Respondent's Obligation: Mandatory.

Legal Authority: Title 22, U.S.C., Sections 3101-3108.

IV. Request for Comments

Comments are invited on: (a) Whether the proposed collection of information is necessary for the proper performance of the functions of the agency, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: July 1, 2003.
Madeleine Clayton,
Management Analyst, Office of the Chief Information Officer.

[FR Doc. 03-17049 Filed 7-3-03; 8:45 am]

BILLING CODE 3510-06-P